DEPARTMENT OF JUSTICE

Notice of Lodging of Consent Decree Under the Comprehensive Environmental Response, Compensation and Liability Act

Notice is hereby given that on August 22, 2005, a proposed Consent Decree in United States v. City and County of Denver, et al, Civil Action No. 02-cv-1341-EWN-MJW was lodged with the United States District Court for the District of Colorado.

In this action the United States sought to recover costs incurred in responding to the release or threatened release of hazardous substances into the environment from the Lowry Landfill Superfund Site, located in Arapahoe County, Colorado, near Denver. The Consent Decree provides for the recovery of future response costs, and $13.9 million in past response costs, incurred by the United States. The Consent Decree also requires that the defendants perform the cleanup work as set forth in the Consent Decree. In exchange for payment, completion of the outlined work and a waiver of claims against the United States, the defendants will receive contribution protection and a release from liability with respect to the Site, subject to certain limitations and conditions. In addition, in exchange for a release of claims against the United States or indemnification by certain defendants, other entities identified in Appendixes F and G of the Consent Decree will receive contribution protection and a release from liability with respect to past response costs, subject to certain limitations and conditions.

The Department of Justice will receive for a period of thirty (30) days from the date of this publication comments relating to the Consent Decree. Comments should be addressed to the Assistant Attorney General, Environment and Natural Resources Division, P.O. Box 7611, U.S. Department of Justice, Washington, DC 20044-7611, and should refer to United States v. City and County of Denver, et al., D.J. Ref. 90-11-2-93/1. Commenters may request an opportunity for a public meeting in the affected area, in accordance with Section 7003(d) of RCRA, 42 U.S.C. 6973(d).

The Consent Decree may be examined at the Office of the United States Attorney, 1225 17th Street, Suite 700, Denver, Colorado, and at the U.S. EPA Region 8 Superfund Records Center, 999 18th Street, Denver, Colorado. During the public comment period, the Consent Decree may also be examined on the following Department of Justice Web site. http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $205.50 (25 cents per page reproduction cost) payable to the U.S. Treasury. In requesting a copy exclusive of exhibits and defendants' signatures, please enclose a check in the amount of $25.00 (25 cents per page reproduction cost) payable to the U.S. Treasury.

Robert D. Brook,
Assistant Chief, Environmental Enforcement Section, Environment and Natural Resources Division.

[FR Doc. 05-16964 Filed 8-25-05; 8:45 am]

BILLING CODE 4410-15-M